DEPARTMENT OF ENERGY

Federal Energy Regulatory Commission

Sunshine Act Meetings

TIME AND DATE: July 15, 2021, 10:00 a.m.

PLACE: Open to the public via audio Web­cast only. Join FERC online to listen live at http://ferc.capitolconnection.org/.

STATUS: Open.

MATTERS TO BE CONSIDERED: Agenda.

* Note—Items listed on the agenda may be deleted without further notice.

This is a list of matters to be considered by the Commission. It does not include a listing of all documents relevant to the items on the agenda. All public documents, however, may be viewed on line at the Commission's website at https://elibrary.ferc.gov/eLibrary/search using the eLibrary link.

1081st—Meeting—Open Meeting
[July 15, 2021, 10:00 a.m.]
Item No. | Docket No. | Company
Administrative
A-1 | AD21-1-000 | Agency Administrative Matters.
A-2 | AD21-2-000 | Customer Matters, Reliability, Security and Market Operations.
Electric
E-1 | RM21-17-000 | Building for the Future Through Electric Regional Transmission Planning and Cost Allocation and Generator Interconnection.
E-2 | ER18-1639-000 | Constellation Mystic Power, LLC.
E-3 | EL20-59-000 | Duquesne Light Company v. PJM Interconnection, L.L.C.
E-4 | ER20-2308-001 | PJM Interconnection, L.L.C.
E-5 | EL21-74-000 | Nevada Power Company and Sierra Pacific Power Company v. California Independent System Operator Corporation.
E-6 | ER20-2878-010 | Pacific Gas and Electric Company.
E-7 | EC21-77-000 | FirstEnergy Corp.
E-8 | EL21-49-000 | Hecate Energy Greene County 3 LLC v. Central Hudson Gas & Electric Corporation and New York Independent System Operator, Inc.
E-9 | EL21-42-000 | Quincy-Columbia Basin Irrigation District and East Columbia Basin Irrigation District.
E-10 | ER20-1068-000 | The Dayton Power and Light Company.
E-11 | EL20-63-000 | City of Alameda, California v. Pacific Gas and Electric Company.
E-12 | EL21-65-000 | Holy Cross Electric Association, Inc.
Gas
G-1 | IN12-17-000 | Total Gas & Power North America, Inc., Total, S.A., Total Gas & Power, Ltd., Aaron Hall and Therese Tran f/k/a/Nguyen.
G-2 | RM20-14-001 | Five-Year Review of the Oil Pipeline Index.
G-3 | RM96-1-042 | Standards for Business Practices of Interstate Natural Gas Pipelines.
G-4 | RP21-741-000 | DCP South Central Texas LLC.
G-5 | RP21-722-000 | Hartree Partners, LP v. Northern Natural Gas Company.
G-6 | Omitted
G-7 | RP20-908-003 | Alliance Pipeline L.P.
Hydro
H-1 | P-405-129 | Exelon Generation Company, LLC.
H-2 | RM20-21-000 | Removing Profile Drawing Requirement for Qualifying Conduit Notices of Intent and Revising Filing Requirements for Major Hydroelectric Projects 10 MW or Less.
H-3 | P-2444-028 | Northern States Power Company—Wisconsin.
Certificates
C-1 | Omitted
C-2 | CP20-466-001 | New Fortress Energy LLC.

CONTACT PERSON FOR MORE INFORMATION: Kimberly D. Bose, Secretary, Telephone (202) 502-8400.

For a recorded message listing items struck from or added to the meeting, call (202) 502-8627.

The public is invited to listen to the meeting live at http://ferc.capitolconnection.org/. Anyone with internet access who desires to hear this event can do so by navigating to www.ferc.gov' s Calendar of Events and locating this event in the Calendar. The event will contain a link to its audio webcast. The Capitol Connection provides technical support for this free audio webcast. It will also offer access to this event via phone bridge for a fee. If you have any questions, visit http://ferc.capitolconnection.org/ or contact Shirley Al-Jarani at 703-993-3104.

Issued: July 8, 2021.
Kimberly D. Bose,
Secretary.

[FR Doc. 2021-14948 Filed 7-9-21; 11:15 am]

BILLING CODE 6717-01-P